DEPARTMENT OF HEALTH AND HUMAN SERVICES

Health Resources and Services Administration

Meeting of the Advisory Commission on Childhood Vaccines

AGENCY: Health Resources and Services Administration (HRSA), Department of Health and Human Services (HHS).

ACTION: Notice.

SUMMARY: The Advisory Commission on Childhood Vaccines (ACCV) has scheduled public meetings for the 2019 calendar year (CY). Information about ACCV, agendas, and materials for these meetings can be found on the ACCV website at: http://www.hrsa.gov/advisorycommittees/childhoodvaccines/index.html.

DATES: ACCV meetings will begin at 10:00 a.m. ET on March 7-8, 2019; June 6-7, 2019; September 5-6, 2019; and December 5-6, 2019.

ADDRESSES: Meetings may be held in-person, by teleconference, and/or Adobe Connect webinar. In-person ACCV meetings will be held at 5600 Fishers Lane, Rockville, Maryland 20857. Instructions for joining the meetings either in person or remotely will be posted on the ACCV website 30 business days before the date of the meeting. For meeting information updates, go to the ACCV website meeting page: https://www.hrsa.gov/advisory-committees/vaccines/meetings.html.

FOR FURTHER INFORMATION CONTACT: Annie Herzog, Program Analyst, Division of Injury Compensation Programs (DICP), HRSA, 5600 Fishers Lane, 08N146B, Rockville, Maryland 20857; 301-443-6593; or aherzog@hrsa.gov.

SUPPLEMENTARY INFORMATION: The ACCV was established by section 2119 of the Public Health Service Act (42 U.S.C. 300aa-19), as enacted by Public Law (Pub. L.) 99-660, and as subsequently amended, and advises the Secretary of HHS (Secretary) on issues related to implementation of the National Vaccine Injury Compensation Program (VICP). For CY 2019 meetings, agenda items may include, but are not limited to, updates from DICP, the Department of Justice, the National Vaccine Program Office, the Immunization Safety Office, National Institute of Allergy and Infectious Diseases, and the Center for Biologics Evaluation and Research. Since priorities dictate meeting times, be advised that locations and agenda items are subject to change. Refer to the ACCV website listed above for all current and updated information concerning the CY 2019 ACCV meetings, including draft agendas and meeting materials that will be posted before the meeting.

Members of the public will have the opportunity to provide comments. Public participants may submit written statements in advance of the scheduled meeting(s). Oral comments will be honored in the order they are requested and may be limited as time allows. Requests to submit a written statement or make oral comments to the ACCV should be sent to Annie Herzog using the contact information above at least five business days before the meeting date(s).

Individuals who need special assistance or another reasonable accommodation should notify Annie Herzog at the address and phone number listed above at least 10 business days before the meeting(s) they wish to attend. Since all in person meetings will occur in a federal government building, attendees must go through a security check to enter the building. Non-U.S. Citizen attendees must notify HRSA of their planned attendance at least 10 business days prior to the meeting in order to facilitate their entry into the building. All attendees are required to present government-issued identification prior to entry.

Amy P. McNulty,
Acting Director, Division of the Executive Secretariat.

[FR Doc. 2019-00439 Filed 1-30-19; 8:45 am]

BILLING CODE 4165-15-P